DEPARTMENT OF JUSTICE

Office of Justice Programs

[OJP (OJJDP) Docket No. 1574]

Establishment of the Attorney General's National Task Force on Children Exposed to Violence

AGENCY: Office of Juvenile Justice and Delinquency Prevention (OJJDP)

ACTION: Notice of establishment of federal advisory committee.

SUMMARY: The Attorney General's National Task Force on Children Exposed to Violence (the Task Force) is established in accordance with the provisions of the Federal Advisory Committee Act (FACA), as amended, 5 U.S.C., App. 2. The Task Force will provide the Attorney General with valuable advice on a broad array of issues to address the national problem of children's exposure to violence. The Task Force will conduct 4 public hearings at various locations around the nation to gather information from key professionals, academics, policy makers, and the public about the extent of the problem of childhood exposure to violence and promising practices for preventing and mitigating the effects of childhood exposure to violence. Based on information gathered at these hearings, the Task Force will develop and provide to the Attorney General a report, which will include high-level policy advice and recommendations regarding preventing children's exposure to violence and mitigating the negative effects experienced by children who are exposed to violence. The Task Force is necessary and in the public interest. The Task Force Charter will terminate on December 31, 2012.

FOR FURTHER INFORMATION CONTACT: Will Bronson, Designated Federal Officer (DFO), Office of Juvenile Justice and Delinquency Prevention, 810 Seventh Street Northwest, Washington, DC 20531; Phone: (202) 305-2427 [Note: this is not a toll-free number]; Email: willie.bronson@usdoj.gov.

Will Bronson,
Deputy Associate Administrator, Child Protection Division, OJJDP and Task Force DFO, Office of Juvenile Justice and Delinquency Prevention, Office of Justice Programs.

[FR Doc. 2011-28319 Filed 11-1-11; 8:45 am]

BILLING CODE 4410-18-P